DEPARTMENT OF AGRICULTURE

Commodity Credit Corporation

Notice of Request for Extension and Revision of Currently Approved Information Collections

AGENCY: Commodity Credit Corporation, USDA.

ACTION: Notice and request for comments.

SUMMARY: In accordance with the Paperwork Reduction Act of 1995, this notice announces the Commodity Credit Corporation's (CCC) intention to request and extension for, and revision to, currently approved information collections in support of the Foreign Market Development Cooperation (Cooperator) Program and the Market Access Program (MAP) based on re-estimates.

DATES: Comments on this notice must be received by February 18, 2003.

ADDITIONAL INFORMATION OR COMMENTS: Contact Director, Marketing Operations Staff, Foreign Agricultural Service, U.S. Department of Agriculture, 1400 Independence Avenue, SW., Washington, DC 20250-1042, (202) 720-4327.

SUPPLEMENTARY INFORMATION:

Title: Foreign Market Development Cooperator Program and Market Access Program.

OMB Number: 0551-26 and 0551-0027, respectively. These will be combined into OMB Number 0551-0026 if this request is approved.

Expiration Date of Approval: March 31, 2003, for the Foreign Market Development Cooperator Program and June 30, 2003, for the Market Access Program.

Type of Request: Extension and revision of currently approved information collections, with change to combine 0551-0026 (Foreign Market Development Cooperator Program) and 0551-0027 (Market Access Program).

Abstract: The primary objective of the Foreign Market Development Cooperator Program and the Market Access Program is to encourage and aid in the creation, maintenance and expansion of commercial export markets for U.S. agricultural products through cost-share assistance to eligible trade organizations. The programs are a cooperative effort between CCC and the eligible trade organizations. Currently, there are about 70 organizations participating directly in the programs with activities in more than 100 countries.

Prior to initiating program activities, each Cooperator or MAP participant must submit a detailed application to Foreign Agricultural Service (FAS) which includes an assessment of overseas market potential; market or country strategies, constrains, goals and benchmarks; proposed market development activities; estimated budgets; and performance measurements. Prior years' plans often dictate the content of current year plans because many activities are continuations of previous activities. Each Cooperator or MAP participant is also responsible for submitting: (1) Reimbursement claims for approved costs incurred in carrying out approved activities, (2) an end-of-year contribution report, (3) travel reports, and (4) progress reports/evaluation studies. Cooperators, or MAP participants must maintain records on all information submitted to FAS. The information collected is used by FAS to manage, plan, evaluate and account for Government resources. The reports and records are required to ensure the proper and judicious use of public funds.

Estimate of Burden: Public reporting burden for this collection of information is estimated to average 21 hours per response.

Respondents: Non-profit trade organizations, state groups, cooperatives, and commercial entities.

Estimated Number of Respondents: 71.

Estimated Number of Responses per Respondent: 62.

Estimated Total Annual Burden on Respondents: 91,442 hours.

Copies of this information collection can be obtained from Kimberly Chisley, the Agency Information Collection Coordinator, at (202) 720-2568.

Request for Comments: Send comments regarding the accuracy of the burden estimate, ways to minimize the burden, including through the use of automated collection techniques or other forms of information technology, or any other aspect of this collection of information, to: Director, Marketing Operations Staff, U.S. Department of Agriculture, 1400 Independence Ave., SW., STOP 1042, Washington, DC 20250-1042. Facsimile submissions may be sent to (202) 720-9361 and electronic mail submissions should be addressed to: mosadmin@fas.usda.gov.

All responses to this notice will be summarized and included in the request for OMB approval. All comments will also become a matter of public record.

Signed at Washington, DC, December 16, 2002.
A. Ellen Terpstra,
Administrator, Foreign Agricultural Service and Vice President, Commodity Credit Corporation.

[FR Doc. 02-32120 Filed 12-19-02; 8:45 am]

BILLING CODE 3410-10-M